NATIONAL TRANSPORTATION SAFETY BOARD

Sunshine Act Meeting Notice

Time: 10:30 a.m., Tuesday, June 3, 2003.

Place: NTSB Conference Center, 429 L'Enfant Plaza, SW., Washington, DC 20594.

Status: The two items are open to the Public.

Matter to be Considered:

7561 Highway Accident Report—Ford Explorer Sport Collision with Ford Windstar and Jeep Grand Cherokee on Interstate 95/495 near Largo, Maryland, on February 1, 2002.

7558 Railroad Accident Report—Collision of Two Burlington Northern Santa Fe Freight Trains near Clarendon, Texas, on May 28, 2002.

News Media Contact: Telephone: (202) 314-6100.

Individuals requesting specific accommodations should contact Ms. Carolyn Dargan at (202) 314-6305 by Friday, May 30, 2003.

FOR FURTHER INFORMATION CONTACT: Vicky D'Onofrio, (202) 314-6410.

Dated: May 23, 2003.
Vicky D'Onofrio,
Federal Register Liaison Officer.

[FR Doc. 03-13439 Filed 5-23-03; 2:15 pm]

BILLING CODE 7533-01-M